DEPARTMENT OF THE INTERIOR

National Park Service

[NPS-WASO-NAGPRA-22488; PPWOCRADN0-PCU00RP14.R50000]

Notice of Inventory Completion: St. Joseph Museums, Inc., St. Joseph, MO

AGENCY: National Park Service, Interior.

ACTION: Notice.

SUMMARY: The St. Joseph Museums, Inc. has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the St. Joseph Museums, Inc. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the St. Joseph Museums, Inc. at the address in this notice by January 17, 2017.

ADDRESSES: Trevor Tutt, St. Joseph Museums, Inc., P.O. Box 8096, St. Joseph, MO 64508, telephone (816) 232-8471, email trevor@stjosephmuseum.org.

SUPPLEMENTARY INFORMATION: Notice is here given in accordance with the Native American Graves Protection and Repatriation Act (NAGPRA), 25 U.S.C. 3003, of the completion of an inventory of human remains under the control of the St. Joseph Museums, Inc., St. Joseph, MO. The human remains were donated on April 27, 1928 by Mary S. McNeil.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the St. Joseph Museums, Inc. professional staff in consultation with representatives of the Confederated Salish and Kootenai Tribes of the Flathead Reservation.

History and Description of the Remains

On April 27, 1928, human remains representing, at minimum, one individual were donated to the St. Joseph Museums, Inc. by Mrs. Mary S. McNeil. These human remains were identified at the time of donation as a Flathead Indian skull over forty years old. The exact location of removal of the human remains and the means by which Mrs. McNeil acquired them were not documented. Based on the original documentation, the human remains most likely were removed in the late nineteenth century. Their identification as Flathead was made by Mrs. McNeil, and/or the director of the St. Joseph Museum, Mrs. Orel Andrews, at the time of accession. Mrs. McNeil's collection spans Native American cultures from Alaska to New Mexico, across the plains and in the American Northeast. As she studied these cultures extensively, the St. Joseph Museums, Inc. believes her assignment of these human remains to the Flathead to be correct. No known individuals were identified. No associated funerary objects are present.

Determinations Made by the St. Joseph Museums, Inc.

Officials of the St. Joseph Museums, Inc. have determined that:

• Pursuant to 25 U.S.C. 3001(9), the human remains described in this notice represent the physical remains of one individual of Native American ancestry.

• Pursuant to 25 U.S.C. 3001(3)(A), no objects described in this notice are reasonably believed to have been placed with or near individual human remains at the time of death or later as part of the death rite or ceremony.

• Pursuant to 25 U.S.C. 3001(2), there is a relationship of shared group identity that can be reasonably traced between the Native American human remains and the Confederated Salish and Kootenai Tribes of the Flathead Reservation.

Additional Requestors and Disposition

Lineal descendants or representatives of any Indian tribe or Native Hawaiian organization not identified in this notice that wish to request transfer of control of these human remains should submit a written request with information in support of the request to Trevor Tutt, St. Joseph Museums, Inc., P.O. Box 8096, St. Joseph, MO 64508, telephone (816) 232-8471, email trevor@stjosephmuseum.org, by January 17, 2017. After that date, if no additional requestors have come forward, transfer of control of the human remains to the Confederated Salish and Kootenai Tribes of the Flathead Indian Reservation may proceed.

The St. Joseph Museums, Inc. is responsible for notifying the Confederated Salish and Kootenai Tribes of the Flathead Indian Reservation that this notice has been published.

Dated: November 29, 2016.
Melanie O'Brien,
Manager, National NAGPRA Program.

[FR Doc. 2016-30336 Filed 12-15-16; 8:45 am]

BILLING CODE 4312-52-P